DEPARTMENT OF ENERGY

Office of Energy Efficiency and Renewable Energy

[Case No. RF-041]

Extension of Waiver to Panasonic Appliances Refrigeration Systems Corporation of America Corporation From the Department of Energy Residential Refrigerator and Refrigerator-Freezer Test Procedures

AGENCY: Office of Energy Efficiency and Renewable Energy, Department of Energy.

ACTION: Extension of Waiver.

SUMMARY: The U.S. Department of Energy (DOE) is granting a waiver extension (Case No. RF-041) to Panasonic Appliances Refrigeration Systems Corporation of America (PAPRSA) to waive the requirements of the DOE electric refrigerator and refrigerator-freezer test procedures for determining the energy consumption of a specific hybrid basic model, PR5180JKBC. Under today's extension, PAPRSA shall be required to test and rate this hybrid wine chiller/beverage center basic model using an alternate test procedure that requires PAPRSA to test the wine chiller compartment at 55 °F instead of the prescribed temperature of 39 °F per title 10 of the Code of Federal Regulations (10 CFR) part 430, subpart B, appendix A. PAPRSA shall also use the K factor (correction factor) value of 0.85 when calculating the energy consumption.

DATES: This extension of waiver is effective September 17, 2014.

FOR FURTHER INFORMATION CONTACT:

Mr. Bryan Berringer, U.S. Department of Energy, Building Technologies Program, Mailstop EE-2J, 1000 Independence Avenue SW., Washington, DC 20585-0121. Telephone: (202) 586-0371, Email: Bryan.Berringer@ee.doe.gov.

Mr. Michael Kido, U.S. Department of Energy, Office of the General Counsel, Mail Stop GC-71, Forrestal Building, 1000 Independence Avenue SW., Washington, DC 20585-0103. Telephone: (202) 586-8145. Email: Michael.Kido@hq.doe.gov.

SUPPLEMENTARY INFORMATION: In accordance with 10 CFR 430.27(g), DOE gives notice of the issuance of its extension of waiver as set forth below. The extension of waiver grants PAPRSA a waiver from the applicable residential refrigerator and refrigerator-freezer test procedures found in 10 CFR part 430, subpart B, appendix A for certain basic models of hybrid wine chiller/beverage center products, provided that PAPRSA tests and rates such products using the alternate test procedure described in this notice. Today's extension prohibits PAPRSA from making representations concerning the energy efficiency of these products unless the product has been tested in a manner consistent with the provisions and restrictions in the alternate test procedure set forth in the extension below, and the representations fairly disclose the test results. Distributors, retailers, and private labelers are held to the same standard when making representations regarding the energy efficiency of these products. 42 U.S.C. 6293(c).

I. Background and Authority

Title III, Part B of the Energy Policy and Conservation Act of 1975 (EPCA), Public Law 94-163 (42 U.S.C. 6291-6309, as codified) established the Energy Conservation Program for Consumer Products Other Than Automobiles, a program covering most major household appliances, which includes the residential electric refrigerators and refrigerator-freezers that are the focus of this notice.¹ Part B includes definitions, test procedures, labeling provisions, energy conservation standards, and the authority to require information and reports from manufacturers. Further, Part B authorizes the Secretary of Energy to prescribe test procedures that are reasonably designed to produce results that measure energy efficiency, energy use, or estimated operating costs, and that are not unduly burdensome to conduct. (42 U.S.C. 6293(b)(3)) The test procedure for residential electric refrigerators and refrigerator-freezers is set forth in 10 CFR part 430, subpart B, appendix A.

¹ For editorial reasons, upon codification in the U.S. Code, Part B was re-designated Part A.

DOE's regulations allow a person to seek a waiver from the test procedure requirements for a particular basic model of a type of covered consumer product when (1) the petitioner's basic model for which the petition for waiver was submitted contains one or more design characteristics that prevent testing according to the prescribed test procedure, or (2) when prescribed test procedures may evaluate the basic model in a manner so unrepresentative of its true energy consumption characteristics as to provide materially inaccurate comparative data. 10 CFR 430.27(a)(1). Petitioners must include in their petition any alternate test procedures known to the petitioner to evaluate the basic model in a manner representative of its energy consumption characteristics.

The granting of a waiver is subject to conditions, including adherence to alternate test procedures. 10 CFR 430.27(f)(2). As soon as practicable after the granting of any waiver, DOE will publish in the Federal Register a notice of proposed rulemaking to amend its regulations so as to eliminate any need for the continuation of such waiver. As soon thereafter as practicable, DOE will publish in the Federal Register a final rule. 10 CFR 430.27(l). The waiver process also allows the granting of an interim waiver from test procedure requirements to manufacturers that have petitioned DOE for a waiver of such prescribed test procedures. 10 CFR 430.27(e). Within one year of issuance of an interim waiver, DOE will either: (i) Publish in the Federal Register a determination on the petition for waiver; or (ii) Publish in the Federal Register a new or amended test procedure that addresses the issues presented in the waiver. 10 CFR 430.27(h)(1).

A petitioner may request that DOE extend the scope of a waiver or an interim waiver to include additional basic models employing the same technology as the basic model(s) set forth in the original petition. DOE will publish any such extension in the Federal Register. 10 CFR 430.27(g).

II. PAPRSA's Extension of Waiver: Assertions and Determinations

On July 2, 2014, PAPRSA requested an extension of its previous waivers (Case Nos. RF-022 and RF-031) under 10 CFR 430.27(g) for its hybrid wine chiller/beverage center basic model, PR5180JKBC pertaining to appendix A to subpart B of 10 CFR part 430. Because PAPRSA has elected to utilize Appendix A to Subpart B of Part 430 prior to the September 15, 2014 effective date to measure the energy consumption of its new basic hybrid model, testing of the refrigerated beverage compartment will be conducted at 39 °F as specified in Appendix A, as opposed to 38 °F as specified in the Appendix A1 test method under which PAPRSA's waiver hybrid models were previously certified. DOE is publishing PAPRSA's extension of waiver in its entirety.

DOE granted a similar waiver to PAPRSA through an interim waiver (78 FR 35894 (June 14, 2013)) and a subsequent Decision and Order (78 FR 57139 (September 17, 2013)) under Case No. RF-031. Additionally, DOE granted a similar waiver to Sanyo E&E Corporation (Sanyo) through an interim waiver (77 FR 19654 (April 2, 2012)) and a subsequent Decision and Order (77 FR 49443 (August 16, 2012)) under Case No. RF-022. On October 4, 2012, DOE issued a notice of correction to the Decision and Order incorporating a K factor (correction factor) value of 0.85 when calculating the energy consumption (77 FR 60688). Sanyo E&E Corporation has since changed its corporate name to Panasonic Appliances Refrigeration Systems Corporation of America, meaning that it is the same manufacturer to which DOE granted the August 2012 waiver. PAPRSA submitted a petition for waiver and application for interim waiver from the test procedure applicable to residential electric refrigerators and refrigerator-freezers set forth in 10 CFR Part 430, subpart B, appendix A1. In its petition, PAPRSA sought a waiver from the existing DOE test procedure applicable to refrigerators and refrigerator-freezers under 10 CFR Part 430 for PAPRSA's hybrid models that consist of single-cabinet units with a refrigerated beverage compartment in the top portion and a wine storage compartment in the bottom of the units. DOE issued guidance that clarified the test procedures to be used for hybrid products such as the PAPRSA model at issue here: http://www1.eere.energy.gov/buildings/appliance_standards/residential/pdfs/refrigerator_definition_faq.pdf. This guidance specifies that basic models such as the ones PAPRSA identifies in its petition, which do not have a separate wine storage compartment with a separate exterior door, are to be tested according to the DOE test procedure in Appendix A1, with the temperatures specified therein. PAPRSA asserts that the wine storage compartment cannot be tested at the prescribed temperature of 38 °F, because the minimum compartment temperature is 45 °F. PAPRSA submitted an alternate test procedure to account for the energy consumption of its wine chiller/beverage centers. That alternate procedure would test the wine chiller compartment at 55 °F, instead of the prescribed 38 °F. To justify the use of this standardized temperature for testing, PAPRSA stated in its petition that it designed these models to provide an average temperature of 55 to 57 °F, which it determined is a commonly recommended temperature for wine storage, suggesting that this temperature is presumed to be representative of expected consumer use. 77 FR 19656. DOE notes that the test procedures for wine chillers adopted by the Association of Home Appliance Manufacturers (AHAM), California Energy Commission (CEC), and Natural Resources Canada all use a standardized compartment temperature of 55 °F for wine chiller compartments, which is consistent with PAPRSA's approach.

III. Conclusion

After careful consideration of all the material submitted by PAPRSA, it is ordered that:

(1) The extension of waiver submitted by the Panasonic Appliances Refrigeration Systems Corporation of America (Case No. RF-041) is hereby granted as set forth in the paragraphs below.

(2) PAPRSA shall be required to test and rate the following PAPRSA model according to the alternate test procedure set forth in paragraph (3) below:

PR5180JKBC

(3) PAPRSA shall be required to test the products listed in paragraph (2) above according to the test procedures for electric refrigerator-freezers prescribed by DOE at 10 CFR part 430, Appendix A, except that, for the PAPRSA products listed in paragraph (2) only, test the wine chiller compartment at 55 °F, instead of the prescribed 39 °F.

PAPRSA shall also use the K factor (correction factor) value of 0.85 when calculating the energy consumption of one of the models listed above. Therefore, the energy consumption is defined by the higher of the two values calculated by the following two formulas (according to 10 CFR part 430, subpart B, Appendix A):

Energy consumption of the wine compartment:

EWine = ET1 + [(ET2-ET1) × (55 °F-TW1)/(TW2-TW1)] *0.85

Energy consumption of the refrigerated beverage compartment:

EBeverage Compartment = ET1 + [(ET2-ET1) × (39 °F-TBC1)/(TBC2-TBC1)].

(4) Representations. PAPRSA may make representations about the energy use of its hybrid wine chiller/beverage center products for compliance, marketing, or other purposes only to the extent that such products have been tested in accordance with the provisions outlined above and such representations fairly disclose the results of such testing.

(5) This waiver shall remain in effect consistent with the provisions of 10 CFR 430.27(l).

(6) This waiver is issued on the condition that the statements, representations, and documentary materials provided by the petitioner are valid. DOE may revoke or modify this waiver at any time if it determines the factual basis underlying the petition for waiver is incorrect, or the results from the alternate test procedure are unrepresentative of the basic models' true energy consumption characteristics.

(7) This waiver applies only to those basic models set out in PAPRSA's July 2, 2014 extension of waiver. Granting of this extension does not release a petitioner from the certification requirements set forth at 10 CFR part 429.

Issued in Washington, DC, on September 10, 2014.
Kathleen B. Hogan,
Deputy Assistant Secretary for Energy Efficiency, Energy Efficiency and Renewable Energy.

BEFORE THE

U.S. DEPARTMENT OF ENERGY

Washington, DC 20585

In the Matter of: Panasonic Appliances Refrigeration Systems Corporation of America, Petitioner

Case Number: RF-022; RF-301

REQUEST FOR EXTENSION OF WAIVER AND INTERIM WAIVER

Panasonic Appliances Refrigeration Systems Corporation of America (“PAPRSA”) respectfully submits this Request for Extension of Waiver and Interim Waiver (“Request”) pursuant to 10 C.F.R. § 430.27(g). PAPRSA intends to introduce a new basic hybrid wine chiller/beverage center model (“hybrid model”) listed below that contains the same design characteristics that prevent testing of the basic model according to the test procedures prescribed in 10 C.F.R. § 430, subpart B, appendix A and for which PAPRSA received two previous waivers and interim waivers as a result. As detailed more fully below, the Department of Energy (“DOE”) has previously granted PAPRSA ¹ two separate waivers from DOE's electric refrigerator and refrigerator-freezer test procedures for determining the energy consumption of substantially similar hybrid models in Case Nos. RF-022 and RF-301 (the “waiver hybrid models”).² PAPRSA has developed a new basic hybrid model, PR5180JKBC, that contains the same design characteristics as its waiver hybrid models that make it impossible to certify, rate, and sell this new hybrid model under the existing testing procedures. PAPRSA therefore respectfully requests that DOE extend the previously granted waivers and interim waivers to these new basic hybrid models and that it be permitted to employ the alternative testing method for this new basic hybrid model that has already been approved by DOE for the waiver hybrid models.

¹ The first waiver granted in Case No. RF-022 was issued to SANYO E&E Corporation. Effective April 1, 2013, SANYO E&E Corporation changed its corporate name to Panasonic Appliances Refrigeration Systems Corporation of America. Throughout this Petition, PAPRSA will be used to refer to both SANYO E&E Corporation and Panasonic Appliances Refrigeration Systems Corporation of America, unless otherwise indicated.

² PAPRSA notes at the outset that its waiver hybrid models were tested and certified by incorporating the standards contained 10 C.F.R. § 430, subpart B, appendix A1 as they relate to the refrigerated beverage compartment of these single cabinet units. For the new basic hybrid model, PAPRSA is electing to utilize 10 C.F.R. § 430, subpart B, appendix A prior to the September 15, 2014 effective date to measure the energy consumption of its new basic hybrid model.

1. Existing Waiver Background and Product Characteristics of PAPRSA's Hybrid Models

On June 2, 2011, PAPRSA submitted a petition for waiver with respect to the test procedures for its waiver hybrid models that consist of a combination of a refrigerated “beverage” compartment in the top portion of these single-cabinet units and a wine storage compartment on the bottom of the units, and for which an alternative testing procedure was necessary in order to certify, rate, and sell such models. The waiver hybrid models include the following models: JUB248LB, JUB248RB, JUB248LW, JUB248RW, KBCO24LS, KBCS24LS, KBCO24RS, KBCS24RS, and MBCM24FW.

As PAPRSA previously explained, PAPRSA designed the wine storage compartments of its waiver hybrid models to operate between a minimum temperature of 45 °F and a maximum temperature of 64 °F, with an average temperature of 55 to 57 °F. In fact, heaters are used to ensure that the temperature in the wine storage compartment never drops below 45 °F, as wines chilled below this temperature risk becoming crystallized and, therefore, ruined. Currently, however, DOE's testing procedures contained in 10 C.F.R. § 430, subpart B, appendix A1, mandate that energy consumption be measured when the compartment temperature is set at 38 °F. Based on the design characteristics of its waiver hybrid models noted above, however, PAPRSA needed a waiver with respect to DOE's testing procedures in order to properly “certify, rate, and sell such models,” because the existing test procedures contained in 10 C.F.R. § 430, subpart B, appendix A1, do not contemplate a product that is designed to be incapable of achieving a temperature below 45 °F.

On April 2, 2012, DOE published PAPRSA's previous petition for waiver and sought public comment, and DOE subsequently extended the deadline for comments after PAPRSA submitted a request for extension to clarify the scope of its original petition for waiver. See Federal Register, Vol. 77, No. 96, 29331-29333. No comments were filed opposing the relief requested in PAPRSA's petition for waiver.

On August 9, 2012, DOE granted PAPRSA a waiver from DOE's electric refrigerator and refrigerator-freezer test procedures for determining the energy consumption of the basic models listed in its June 2, 2011 petition for waiver. See Federal Register, Vol. 77, No. 159, 49443-44. In permitting PAPRSA to test the wine chiller compartment at 55 °F, DOE noted “that the test procedures for wine chillers adopted by the Association of Home Appliance Manufacturers (AHAM), California Energy Commission (CEC), and Natural Resources Canada all use a standardized compartment temperature of 55 °F for wine chiller compartments, which is consistent with [PAPRSA's] approach.” Id. at 49444.

On September 26, 2012, DOE issued a correction to its August 9, 2012 order that incorporated the K factor (correction factor) value of .85 that PAPRSA should utilize when calculating the energy consumption of its waiver hybrid models. See Federal Register, Vol. 77, No. 193, 60688-89. Accordingly, DOE ultimately directed PAPRSA to utilize the following test procedure for its waiver hybrid models:

Energy consumption is defined by the higher of the two values calculated by the following two formulas (according to 10 CFR part 430, subpart B, Appendix A1):

Energy consumption of the wine compartment:

EWine = (ET1 + [(ET2-ET1) × (55 °F-TW1)/(TW2-TW1)]) *0.85

Energy consumption of the refrigerated beverage compartment:

EBeverage Compartment = ET1 + [(ET2-ET1) × (38 °F-TBC1)/(TBC2-TBC1)].

See Federal Register, Vol. 77, No. 193 at 60689.

On April 29, 2013, PAPRSA submitted a second petition for waiver and interim waiver for a substantially similar hybrid model, SR5180JBC, that shares the same design characteristics that led DOE to approve PAPRSA's June 2, 2011 waiver request. No comments were filed opposing the relief requested in PAPRSA's second petition for waiver and interim waiver. On September 17, 2013, DOE again granted PAPRSA a waiver from DOE's electric refrigerator and refrigerator-freezer test procedures for determining the energy consumption of basic hybrid model SR5180JBC. See Federal Register, Vol. 78, No. 180, 57139-41.

2. Request to Extend Scope of Previously Granted Waivers and Interim Waivers to New Basic Hybrid Model under Previously Approved Alternative Testing Procedure

As indicated above, PAPRSA has developed a new basic hybrid model, PR5180JKBC, that shares the same design characteristics that led DOE to approve PAPRSA's two prior petitions for waiver. This new basic hybrid model is a single cabinet hybrid model that would be classified as a compact refrigerator with automatic defrost without through-the-door ice service, but which has a wine-chiller compartment designed for an average temperature of 55 to 57 °F. Just as PAPRSA's waiver hybrid models, this new basic hybrid model contains a heater that makes it impossible for the temperature of the wine-chiller compartment to reach a temperature below 45 °F. Thus, testing this new hybrid model at 39 °F is simply not possible and not representative of the energy consumption characteristics of this new basic hybrid model.

Further, this new basic hybrid model, just as PAPRSA's waiver hybrid models, will have a door-opening usage aligned with household freezers, thus 0.85 should also be the employed K factor (correction factor) for this basic hybrid model. See Appendix B1 to Subpart 430, 5.2.1.1, because Subpart 430 does not recognize wine chiller as a category.

In short, there are no material differences between this new basic hybrid model and PAPRSA's waiver hybrid models as it impacts this Request. The design differences between the new basic hybrid model and the waiver hybrid models are the introduction of a more efficient compressor and new external electronic controls. Although the new basic hybrid model will be more energy efficient, the design characteristics of the new basic hybrid model are the same as the characteristics of PAPRSA's waiver hybrid models that led DOE to grant the prior two waivers. Accordingly, PAPRSA respectfully requests that it be permitted to use the following testing procedure for its new basic hybrid model:

Energy consumption is defined by the higher of the two values calculated by the following two formulas (according to 10 CFR part 430, subpart B, Appendix A):

Energy consumption of the wine compartment:

EWine = (ET1 + [(ET2-ET1) × (55 °F-TW1)/(TW2-TW1)]) *0.85

Energy consumption of the refrigerated beverage compartment:

EBeverage Compartment = ET1 + [(ET2-ET1) × (39 °F-TBC1)/(TBC2-TBC1)].³

³ As a result of electing to utilize Appendix A to Subpart B of Part 430 prior to the September 15, 2014 effective date to measure the energy consumption of its new basic hybrid model, testing of the refrigerated beverage compartment will be conducted at 39 °F as specified in Appendix A, as opposed to 38 °F as specified in Appendix A1 and under which PAPRSA's waiver hybrid models were previously certified.

Accordingly, PAPRSA respectfully requests that DOE extend the waivers that DOE previously granted it and that PAPRSA be permitted to use this approved alternative testing method to test, certify and rate the new basic hybrid models in the same manner as its waiver hybrid models subject to the existing waivers.

3. Grounds for Interim Waiver

Pursuant to 10 CFR part 430.27(b)(2), applicants for an interim waiver should address the likely success of their petition and what economic hardships and/or competitive disadvantages are likely to arise absent the grant of an interim waiver.

As detailed above, it is highly likely that DOE will grant this Request, as PAPRSA is simply seeking to test a new basic hybrid model under the alternative testing procedure already approved twice by DOE for PAPRSA's other hybrid models subject to the existing waivers. The new basic hybrid models contain no materially different design characteristics that should warrant a different result.

Further, as DOE has previously stated, “[f]ully recognizing that product development occurs faster than the test procedure rulemaking process, the Department's rules permit manufacturers of models not contemplated by the test procedures . . . to petition for a test procedure waiver in order to certify, rate, and sell such models.” GC Enforcement Guidance on the Application of Waivers and on the Waiver Process at 2 (rel. Dec. 23, 2010); ⁴ see also DOE FAQ Guidance Regarding Coverage of Wine Chillers, Etc. in the R/F Standard/Test Procedure at 2 (rel. Feb. 10, 2011) (“DOE recognizes the potential disparity in treatment among these hybrid products. As DOE indicated . . . , the Department plans to engage in a future rulemaking to more comprehensively address these types of products.”).

⁴ Available at http://www.gc.energy.gov/documents/LargeCapacityRCW_guidance_122210.pdf.

Certain manufacturers design comparable hybrid models so that the beverage center compartment does not reach below 40 °F, and thus are not covered products under DOE's regulations. Unless PAPRSA is granted an interim waiver, it will be at a competitive disadvantage by being unable to introduce the new basic hybrid model to compete with manufacturers that design their hybrid models in a manner that falls outside of DOE's jurisdiction.

Thus, given that this Request is likely to be granted and PAPRSA will face economic hardship unless an interim waiver is granted, permitting PAPRSA to immediately certify the new basic hybrid model under the alternative testing method already approved by DOE is in the public interest.

Respectfully submitted,

Alan G. Fishel

Adam D. Bowser

Arent Fox LLP, 1717 K St. NW., Washington, DC 20036-5369, (202) 857-6450, fishel.alan@arentfox.com, bowser.adam@arentfox.com, Counsel for Panasonic Appliances Refrigeration Systems Corporation of America

July 2, 2014

[FR Doc. 2014-22175 Filed 9-16-14; 8:45 am]

BILLING CODE 6450-01-P